ENVIRONMENTAL PROTECTION AGENCY

40 CFR Part 52

[EPA-R10-OAR-2019-0403; FRL-9998-95-Region 10]

Air Plan Approval: ID; Update to CRB Fee Billing Procedures

AGENCY: Environmental Protection Agency (EPA).

ACTION: Proposed rule.

SUMMARY: The Environmental Protection Agency (EPA) proposes to approve state implementation plan (SIP) revisions submitted by the State of Idaho's Department of Environmental Quality on June 5, 2019. The changes provide Idaho Department of Environmental Quality a more streamlined administrative process and were based on recommendation from Idaho's Crop Residue Advisory Committee. Specifically, the revisions proposed for approval in this action implement changes to when fees for open burning of crop residue are paid. We note that this action does not address the other revisions contained in Idaho's June 5, 2019 submission. The remaining portions of that submittal will be addressed in separate, future actions.

DATES: Written comments must be received on or before October 3, 2019.

ADDRESSES: Submit your comments, identified by Docket ID No. EPA-R10-OAR-2019-0403 at https://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

FOR FURTHER INFORMATION CONTACT: Randall Ruddick, EPA Region X, 1200 Sixth Avenue-Suite 155, Seattle, WA 98101, at ruddick.randall@epa.gov, or (206) 553-1999.

SUPPLEMENTARY INFORMATION: Throughout this document whenever “we,” “us,” or “our” is used, it is intended to refer to the EPA. For further information, please see the direct final action, of the same title, which is located in the Rules section of this issue of the Federal Register. The EPA is approving the State's SIP revision as a direct final rule without prior proposal because the EPA views this as a noncontroversial SIP revision and anticipates no adverse comments. A detailed rationale for the approval is set forth in the preamble to the direct final rule. If the EPA receives no adverse comments, the EPA will not take further action on this proposed rule.

If the EPA receives adverse comments, the EPA will withdraw the direct final rule and it will not take effect. The EPA will address all public comments in a subsequent final rule based on this proposed rule. The EPA will not institute a second comment period on this action. Any parties interested in commenting on this action should do so at this time. Please note that if we receive adverse comment on an amendment, paragraph, or section of this rule and if that provision may be severed from the remainder of the rule, the EPA may adopt as final those provisions of the rule that are not the subject of an adverse comment.

Dated: August 15, 2019.
Michelle L. Pirzadeh,
Acting Regional Administrator, Region 10.

[FR Doc. 2019-18848 Filed 8-30-19; 8:45 am]

BILLING CODE 6560-50-P